DEPARTMENT OF COMMERCE

National Oceanic and Atmospheric Administration

RIN 0648-XD151

Fisheries of the South Atlantic; South Atlantic Fishery Management Council (Council); Public Meeting

AGENCY: National Marine Fisheries Service (NMFS), National Oceanic and Atmospheric Administration (NOAA), Commerce.

ACTION: Notice of public meeting.

SUMMARY: The South Atlantic Fishery Management Council (SAFMC) will hold a meeting of its Dolphin Wahoo Advisory Panel (AP) in North Charleston, SC.

DATES: The meeting will be held on Wednesday, March 19, 2014, from 9 a.m. until 12 p.m.

ADDRESSES: Meeting address: The meeting will be held at the Crowne Plaza Airport Hotel, 4831 Tanger Outlet Blvd., North Charleston, SC 29418; telephone: (843) 744-4422 or (877) 227-6963; fax: (843) 744-4472.

Council address: South Atlantic Fishery Management Council, 4055 Faber Place Drive, Suite 201, N. Charleston, SC 29405.

FOR FURTHER INFORMATION CONTACT: Kim Iverson, Public Information Officer, SAFMC; telephone: (843) 571-4366 or toll free (866) SAFMC-10; fax: (843) 769-4520; email: kim.iverson@safmc.net.

SUPPLEMENTARY INFORMATION: The items of discussion in the AP's agenda are as follows:

Agenda for Wednesday, March 19, 2014

1. Approve the current agenda as well as the minutes from the April 2013 Dolphin Wahoo AP meeting.

2. Receive a presentation on dolphin research from the Cooperative Science Services Center.

3. Receive an update on Dolphin Wahoo Amendment 5, pertaining to: Revision of accountability measures; changes to dolphin sector allocations; modifications to the framework for dolphin and wahoo; and changes to the Annual Catch Limit (ACL) and the Allowable Biological Catch (ABC). Review Scientific & Statistical Committee (SSC) comments on the amendment.

4. Receive an overview on Dolphin Wahoo Amendment 7, regarding the transport of fillets from Bahamian waters into the United States Exclusive Economic Zone (EEZ). Discuss the amendment and provide AP recommendations.

5. Receive an overview of Dolphin Wahoo Amendment 8, regarding accountability measures (AMs). Discuss the amendment and provide AP recommendations.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for auxiliary aids should be directed to the council office (see ADDRESSES) three (3) days prior to the meeting.

Note: The times and sequence specified in this agenda are subject to change.

Authority: 16 U.S.C. 1801 et seq.

Dated: February 25, 2014.
Tracey L. Thompson,
Acting Deputy Director, Office of Sustainable Fisheries, National Marine Fisheries Service.

[FR Doc. 2014-04402 Filed 2-27-14; 8:45 am]

BILLING CODE 3510-22-P